FEDERAL COMMUNICATIONS COMMISSION

[FR ID 322524 ]

Sunshine Act; Open Commission Meeting Thursday, December 18, 2025

December 11, 2025.

The Federal Communications Commission will hold an Open Meeting on the subjects listed below on Thursday, December 18, 2025, which is scheduled to commence at 10:30 a.m. in the Commission Meeting Room of the Federal Communications Commission, 45 L Street NE, Washington, DC.

While attendance at the Open Meeting is available to the public, the FCC headquarters building is not open access and all guests must check in with and be screened by FCC security at the main entrance on L Street. Attendees at the Open Meeting will not be required to have an appointment but must otherwise comply with protocols outlined at: www.fcc.gov/visit. Open Meetings are streamed live at: www.fcc.gov/live and on the FCC's YouTube channel.

Item No. | Bureau | Subject
1 | Wireline Competition | Title: Updating Rules to Curb Robocallers' Access to Phone Numbers (WC Docket No. 13-97); Telephone Number Requirements for IP-Enabled Service Providers (WC Docket No. 07-243); Implementation of TRACED Act Section 6(a)—Knowledge of Customers by Entities with Access to Numbering Resources (WC Docket No. 20-67) Summary: The Commission will consider a Third Report and Order and Third Further Notice of Proposed Rulemaking to strengthen and modernize the Commission's requirements that all providers of Voice over Internet Protocol service must meet to maintain direct access to telephone numbers and protect consumers from illegal robocalling. The Commission would seek comment on ways to further bolster numbering resource protections as bad actors continue to seek new and creative methods for exploiting consumers and causing harm.
2 | Media | Title: Advancement of the Low Power Television, TV Translator and Class A Television Service (MB Docket No. 24-148) Summary: The Commission will consider a Report and Order amending its rules to provide regulatory certainty and clarity to LPTV broadcasters and reflect changes in the broadcast industry since the establishment of the LPTV service.
3 | Office of Engineering and Technology | Title: Delete, Delete, Delete (GN Docket No. 25-133) Summary: The Commission will consider a Direct Final Rule that would continue the Commission's efforts to modernize its regulatory framework by eliminating approximately 35 obsolete, outdated, and unnecessary rules from Parts 2, 15, and 18, totaling 11,970 words or approximately 25 pages of the Code of Federal Regulations.

* * * * *

The meeting will be webcast at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Press Access—Members of the news media are welcome to attend the meeting and will be provided reserved seating on a first-come, first-served basis. Following the meeting, the Chairman may hold a news conference in which he will take questions from credentialed members of the press in attendance. Also, senior policy and legal staff will be made available to the press in attendance for questions related to the items on the meeting agenda. Commissioners may also choose to hold press conferences. Press may also direct questions to the Office of Media Relations (OMR): MediaRelations@fcc.gov. Questions about credentialing should be directed to OMR.

Additional information concerning this meeting may be obtained from the Office of Media Relations, (202) 418-0500. Audio/Video coverage of the meeting will be broadcast live with open captioning over the internet from the FCC Live web page at www.fcc.gov/live.

Authority: This meeting is held, in accordance with the Government in the Sunshine Act (Sunshine Act), Public Law 94-409, as amended (5 U.S.C. 552b).

Federal Communications Commission.
Marlene Dortch,
Secretary.

[FR Doc. 2025-23326 Filed 12-16-25; 4:15 pm]

BILLING CODE 6712-01-P